DEPARTMENT OF ENERGY

Office of Environmental Management; Environmental Management Advisory Board Renewal

Pursuant to Section 14(a)(2)(A) of the Federal Advisory Committee Act (FACA) (Pub. L. 92-463), and in accordance with Title 41 of the Code of Federal Regulations, section 102-3.65(a), and following consultation with the Committee Management Secretariat, General Services Administration, notice is hereby given that the Environmental Management Advisory Board (Board) is being renewed for a two-year period beginning on January 17, 2006. The Board will provide advice and recommendations to the Assistant Secretary for Environmental Management (EM).

The Board provides the Assistant Secretary for EM with information and strategic advice on a broad range of corporate issues affecting the EM program. It recommends options to resolve difficult issues faced in the EM program including, but not limited to: Project management and oversight activities; cost/benefit analyses; program performance; contracts and acquisition strategies; human capital management; and site end states activities. Consensus recommendations to the DOE from the Board on programmatic nationwide resolution of numerous difficult issues will help achieve the DOE's objective of the safe and efficient cleanup of its contaminated sites.

Additionally, the renewal of the Environmental Management Advisory Board has been determined to be essential to the conduct of the DOE's business and to be in the public interest in connection with the performance of duties imposed on the DOE by law and agreement. The Board will operate in accordance with the provisions of the FACA, and rules and regulations issued in implementation of that Act.

Further information regarding this Advisory Board may be obtained from Ms. Terri Lamb at (202) 586-9007.

Issued in Washington, DC on January 24, 2006.
James N. Solit,
Advisory Committee Management Officer.

[FR Doc. E6-1117 Filed 1-27-06; 8:45 am]

BILLING CODE 6450-01-P